DEPARTMENT OF COMMERCE

National Oceanic and Atmospheric Administration

RIN 0648-XC49

New England Fishery Management Council; Public Meeting

AGENCY: National Marine Fisheries Service (NMFS), National Oceanic and Atmospheric Administration (NOAA), Commerce.

ACTION: Notice of a public meeting.

SUMMARY: The New England Fishery Management Council's (Council) VMS (Vessel Monitoring System)/Enforcement Committee will meet to consider actions affecting New England fisheries in the exclusive economic zone (EEZ).

DATES: The meeting will be held on Monday, October 1, 2007, at 9 a.m.

ADDRESSES: The meeting will be held at the New England Fishery Management Council Office, 50 Water Street, Mill #2, Newburyport, MA 01950; telephone: (978) 495-0492.

FOR FURTHER INFORMATION CONTACT: Paul J. Howard, Executive Director, New England Fishery Management Council; telephone: (978) 465-0492.

SUPPLEMENTARY INFORMATION: The items of discussion in the committee's agenda are as follows:

1. The VMS/Enforcement Committee will review a Question and Answer document to be developed by the Northeast Regional Office highlighting the most asked questions about VMS. They will examine the requirements to only change fishing code from inside the demarcation line to the follwing VMS fisheries: herring, scallops and northeast multispecies. They will also examine inconsistent and duplicate regulations with respect to utilizing VMS as a vehicle to change or remove them.

2. The committee will approve/endorse the Law Enforcement Precepts from the Office of Law Enforcement.

3. They will receive a written report from NMFS on the network outages by vendor and vessel missing position reports by vendor.

4. Also on the agenda will be the review of an emergency contact list and discussion regarding distribution.

5. Other business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: September 7, 2007.
Tracey L. Thompson,
Acting Director, Office of Sustainable Fisheries, National Marine Fisheries Service.

[FR Doc. E7-17948 Filed 9-11-07; 8:45 am]

BILLING CODE 3510-22-S